DEPARTMENT OF ENERGY

Federal Energy Regulatory Commission

Combined Notice of Filings #1

Take notice that the Commission received the following electric rate filings:

Docket Numbers: ER20-2259-001.

Applicants: New York Transco, LLC, New York Independent System Operator, Inc.

Description: Compliance filing: New York Transco, LLC submits tariff filing per 35: NY Transco compliance re: FERC December 29, 2022 order on formula rate revisions to be effective 1/27/2020.

Filed Date: 2/27/23.

Accession Number: 20230227-5034.

Comment Date: 5 p.m. ET 3/20/23.

Docket Numbers: ER22-1229-001.

Applicants: MATL LLP.

Description: Compliance filing: Compliance Filing ER22-1229 to be effective 2/23/2023.

Filed Date: 2/27/23.

Accession Number: 20230227-5023.

Comment Date: 5 p.m. ET 3/20/23.

Docket Numbers: ER22-2773-002.

Applicants: Smoky Mountain Transmission LLC.

Description: Tariff Amendment: Amended and Restated Interconnection Agreement to be effective 9/2/2022.

Filed Date: 2/27/23.

Accession Number: 20230227-5169.

Comment Date: 5 p.m. ET 3/20/23.

Docket Numbers: ER23-1180-000.

Applicants: Sierra Pacific Power Company.

Description: Tariff Amendment: Notice of Termination Filing to be effective 2/27/2023.

Filed Date: 2/24/23.

Accession Number: 20230224-5177.

Comment Date: 5 p.m. ET 3/17/23.

Docket Numbers: ER23-1181-000.

Applicants: Sierra Pacific Power Company.

Description: Tariff Amendment: Notice of Termination Filing to be effective 2/27/2023.

Filed Date: 2/24/23.

Accession Number: 20230224-5179.

Comment Date: 5 p.m. ET 3/17/23.

Docket Numbers: ER23-1182-000.

Applicants: Nevada Power Company.

Description: Tariff Amendment: Notice of Termination Filing to be effective 2/27/2023.

Filed Date: 2/24/23.

Accession Number: 20230224-5180

Comment Date: 5 p.m. ET 3/17/23.

Docket Numbers: ER23-1183-000.

Applicants: Censtar Energy Corp.

Description: Notice of Cancellation of Market Based Rate Tariff of CenStar Energy Corp.

Filed Date: 2/24/23.

Accession Number: 20230224-5246.

Comment Date: 5 p.m. ET 3/17/23.

Docket Numbers: ER23-1184-000.

Applicants: Oasis Power, LLC.

Description: Notice of Cancellation of Market Based Rate Tariff of Oasis Power, LLC.

Filed Date: 2/24/23.

Accession Number: 20230224-5248.

Comment Date: 5 p.m. ET 3/17/23.

Docket Numbers: ER23-1185-000.

Applicants: Perigee Energy, LLC.

Description: Notice of Cancellation of Market Based Rate Tariff of Perigee Energy, LLC.

Filed Date: 2/24/23.

Accession Number: 20230224-5249.

Comment Date: 5 p.m. ET 3/17/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2023.
Debbie-Anne A. Reese,
Deputy Secretary.

[FR Doc. 2023-04380 Filed 3-2-23; 8:45 am]

BILLING CODE 6717-01-P